DEPARTMENT OF TRANSPORTATION

Federal Railroad Administration

[Docket Number FRA-2019-0081]

Notice of Application for Approval of Discontinuance or Modification of a Railroad Signal System

Under part 235 of title 49 of the Code of Federal Regulations (CFR) and 49 U.S.C. 20502(a), this document provides the public notice that by a document dated July 3, 2020, Grenada Railroad, LLC (GRYR) petitioned the Federal Railroad Administration (FRA) seeking approval to discontinue or modify a signal system. FRA assigned the petition Docket Number FRA-2019-0081.

Applicant: Grenada Railroad, LLC, Barbara W. Wilson, President & CFO, 1515 S. Federal Highway, Suite 404, Boca Raton, FL 33432.

Specifically, GRYR seeks reconsideration of FRA's May 7, 2020, decision to deny GRYR's September 18, 2019, proposed discontinuance and removal of the automatic block signal (ABS) system located from milepost (MP) 403.0 near Southaven, MS, to MP 617.4 near Grenada, MS.

In its July 3, 2020, petition, GRYR states that reactivation of the ABS system, which has been out of service since 2014, is not justified by current rail operations, and the prohibitive costs of reactivation will require the use of capital which could be better spent on other projects to yield stronger safety benefits.

GRYR further states that under the ownership of RailUSA, GRYR has worked diligently and invested significantly to revitalize this long-neglected rail line, re-establish operations on the southern half of its system, and improve the safety and operations of the northern half of its system. The committed focus on rail safety and continued investment in infrastructure is expected to continue to improve the safety and operations of GRYR's main line and adjacent rail facilities.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by August 31, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
John Karl Alexy,
Associate Administrator for Railroad Safety, Chief Safety Officer.

[FR Doc. 2020-15189 Filed 7-14-20; 8:45 am]

BILLING CODE 4910-06-P